DEPARTMENT OF JUSTICE

Notice of Lodging of Consent Order Under the Clean Water Act

Notice is hereby given that on August 2, 2007, a proposed Consent Order in United States v. Country Acres Farm, Inc., Civil Action No. 07-07-B-W was lodged with the United States District Court for the District of Maine.

In this action the United States sought civil penalties and injunctive relief relating to alleged violations of the Clean Water Act, 33 U.S.C. 1251, et seq., arising out of Country Acres Farm's operation of a concentrated animal feeding operation, located in Dixmont, Maine. Country Acres Farm's dairy operations generated significant amounts of process-generated waste water which was alleged in the Complaint to have discharged to waters of the United States. The Consent Order requires the implementation of remedial work to clean up manure storage lagoons and other activities, which will minimize or eliminate the risk of additional discharges at the Country Acres Farm Site, by memorializing Defendant's commitment to effect the remediation. The Consent Order provides a mechanism through which EPA may evaluate the performance of Defendant's independent contractor and retains the Court's exercise of jurisdiction over issues relating to Defendant's performance of the remediation and (with EPA's approval of completion of the remediation) purges Defendant and its president of an Order for Contempt, entered by the Court on July 24, 2007. The Consent Order does not resolve the United States' claims for final injunctive relief or for payment of a civil penalty.

In light of the importance of concluding the remedial work as soon as possible, the Department of Justice will receive for a period of fourteen (14) days from the date of this publication comments relating to the Consent Order. Comments should be addressed to the Assistant Attorney General, Environment and Natural Resources Division, and either e-mailed to pubcomment-ees.enrd@usdoj.gov or mailed to P.O. Box 7611, U.S. Department of Justice, Washington, DC 20044-7611, and should refer to United States v. Country Acres Farm, Inc., D.J. Ref. 90-5-1-1-09068.

The Consent Order may be examined at the Office of the United States Attorney, District of Maine, 100 Middle Street Plaza, East Tower Sixth Floor, and at U.S. EPA Region 1, One Congress Street-SEL, Boston, MA 02114. During the public comment period, the Consent Order may also be examined on the following Department of Justice Web site:

http://www.usdoj.gov/enrd/Consent_Decrees.html. A copy of the Consent Order may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.50 (25 cents per page reproduction cost) payable to the U.S. Treasury or, if by e-mail or fax, forward a check in that amount to the Consent Decree Library at the stated address.

Ronald G. Gluck,
Assistant Chief, Environmental Enforcement Section, Environment and Natural Resources Division.

[FR Doc. 07-3867 Filed 8-8-07; 8:45 am]

BILLING CODE 4410-15-M